DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of nine individuals and seven entities whose property and interests in property have been blocked pursuant to the Foreign Narcotics Kingpin Designation Act (“Kingpin Act”) (21 U.S.C. 1901-1908, 8 U.S.C. 1182).

DATES: The designation by the Director of OFAC of the nine individuals and seven entities identified in this notice pursuant to section 805(b) of the Kingpin Act is effective on February 18, 2011.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On February 18, 2011, the Director of OFAC designated nine individuals and seven entities whose property and interests in property are blocked pursuant to section 805(b) of the Foreign Narcotics Kingpin Designation Act.

The list of additional designees is as follows:

Entities:

1. AHMAD SHAH MONEY EXCHANGE (a.k.a. AHMAD SHAH HAKIMI MONEY EXCHANGE; a.k.a. HAKIMI MONEY EXCHANGE; a.k.a. SHAH HAKIMI MONEY EXCHANGE), Sarayee Shahzada, 1 floor, Shop No. 7, Kabul, Afghanistan; Surai Shahzada, Ground Floor, Shop No. 7, Kabul, Afghanistan; Sara-e-Shahzada Market, Shop No. 7, Kabul, Afghanistan; Trade License No. 101016 (Afghanistan) (entity) [SDNTK]

2. AL ADAL EXCHANGE, P.O. Box 56351, Dubai, United Arab Emirates; Nasr Square, Opposite Car Park Building, Shop No. 5, Dubai, United Arab Emirates; Naser Square, RPA Carpet Building, Shop No. 5, Deira, Dubai, United Arab Emirates; Al Souk Al Kbirr Street, Near Gargash Center, Deira, Dubai, United Arab Emirates; Dubai Chamber of Commerce Membership No. 172133 (United Arab Emirates) (entity) [SDNTK]

3. CONNECT TELECOM GENERAL TRADING LLC, Gargash Center, Shop No. 2, Dubai, United Arab Emirates; P.O. Box 63826, Dubai, United Arab Emirates; Al Owais Tower, 15th Floor, Office No. 1506, Creek Area, Near Twin Towers, Dubai, United Arab Emirates; Gargash Center, Shop No. 114, Dubai, United Arab Emirates; Dubai Chamber of Commerce Membership No. 123076 (United Arab Emirates) (entity) [SDNTK]

4. GREEN LEAF GENERAL TRADING LLC (f.k.a. GREEN LEAF TRADING LLC), Hamad Bin Ali Alowais Building, Al Suq Al Kabeer Street, Deira, Dubai, United Arab Emirates; Humaid Bin Ali Alowais Building, Al Suq Al Kabeer Street, Deira, Al Bateen, Dubai, United Arab Emirates; P.O. Box 56351, Dubai, United Arab Emirates; Gargash Center, Shop No. 114, Dubai, United Arab Emirates; Dubai Chamber of Commerce Membership No. 42988 (United Arab Emirates) (entity) [SDNTK]

5. MUSHTAQ SHAHEEN CONSTRUCTION AND ROADMAKING COMPANY (a.k.a. MUSHTAQ SHAHEEN LTD), Surai Shahzada, Ground Floor, Shop No. 7, Surai Shahzada, Kabul, Afghanistan; Surai Shahzada, Shop No. 7, Ground Floor, Surai Shahzada, Kabul, Afghanistan; Room No. 7, Sarai Shahzada Mandawi, Kabul District No. 1, Afghanistan; Commercial Registry Number 31225 (Afghanistan) (entity) [SDNTK]

6. NEW ANSARI LTD, Helmand, Afghanistan; Shahri Naw Turah Baz Khan Street, Kabul, Afghanistan; Kandahar, Afghanistan; Farah, Afghanistan; Nimroz, Afghanistan; Urozgan, Afghanistan; Herat, Afghanistan; Badghis, Afghanistan; Mazar-i- Sharif, Afghanistan; Qundoz, Afghanistan; Jalalabad, Afghanistan; Ghanzi, Afghanistan; Ghazni, Afghanistan (entity) [SDNTK]

7. NEW ANSARI MONEY EXCHANGE (a.k.a. NAWI ANSARI LTD; a.k.a. NEW ANSARI COMPANY; a.k.a. NEW ANSARI MONEY SERVICES PROVIDER), Shahr-i-Naw, Kabul, Afghanistan; Shop No. 93, 1st Floor, Sarai Shahzada Market, Kabul, Afghanistan; Pul-i-Baghe Omomee, Shahzada Money Market, Kabul, Afghanistan; 2nd Floor, Soraj Nazeer Market, Shop No. 30- 301, Kabul, Afghanistan; 1st Street, Madat Intersection, Sharif Market, Kandahar, Afghanistan; Afghan United Bank Building, Hayratan, Afghanistan; Afghan United Bank Building, Hairatan, Afghanistan; Herat New City, Behzad Intersection, Next to 10th Intersection, Herat, Afghanistan; Jalalabad, Afghanistan; 30 Meters Street, Sharif, Nimroz, Afghanistan; Spin Boldak, Kandahar, Afghanistan; Dubai, United Arab Emirates; Tax ID No. 004800015 (Afghanistan) [SDNTK]

Individuals:

1. AZIMI, Haji Mohammad Rafi (a.k.a. AZIMI, Haji Muhammad Rafi; a.k.a. RAFI, Abdul); DOB 15 Feb 1972; POB Afghanistan; citizen Afghanistan; Passport OR131106 (Afghanistan) (individual) [SDNTK]

2. BARAKZAI ANSARI, Haji Abdullah (a.k.a. ANSARI, Haji Abdullah; a.k.a. BARAKZAI, Haji Abdullah), c/o NEW ANSARI MONEY EXCHANGE, Afghanistan; National ID No. 10331 (Afghanistan) (individual) [SDNTK]

3. HAJI ABDUL QAYOUM, Eissa Jan (a.k.a. HAJI ABDUL QAYOUM, Eisa Jan; a.k.a. HAJI ABDUL QAYOUM, Eisa Jon); DOB 13 Apr 1986; alt. DOB 13 Nov 1986; POB Kandahar, Afghanistan; citizen Afghanistan; Passport OR306785 (Afghanistan); alt. Passport OR022979 (Afghanistan) (individual) [SDNTK]

4. HAKIMI, Ahmad Shah, c/o AHMAD SHAH MONEY EXCHANGE, Afghanistan; c/o MUSHTAQ SHAHEEN CONSTRUCTION AND ROAD MAKING COMPANY, Afghanistan; DOB 1971; Passport OA547045 (Afghanistan); alt. Passport TR039938 (Afghanistan) (individual) [SDNTK]

5. JAN, Haji Mohammad (a.k.a. BIN KUL MOHAMMED, Mohammad Jan), c/o GREEN LEAF GENERAL TRADING LLC, Dubai, United Arab Emirates; c/o CONNECT TELECOM GENERAL TRADING LLC, Dubai, United Arab Emirates; DOB 7 Oct 1969; alt. DOB 1968; POB Kandahar, Afghanistan; citizen Afghanistan; National ID No. 1090876 (Afghanistan) (individual) [SDNTK]

6. KHAN, Haji Mohammad, c/o NEW ANSARI MONEY EXCHANGE, Afghanistan; DOB 1980; POB Kandahar, Afghanistan; citizen Afghanistan; National ID No. 242606 (Afghanistan); Passport TR040526 (Afghanistan) (individual) [SDNTK]

7. MOHAMMAD AFZAL, Rahmatullah; DOB 1 Jan 1982; POB Kabul, Afghanistan; citizen Afghanistan; Passport OR305655 (Afghanistan); alt. Passport OR488406 (Afghanistan); alt. Passport OR844806 (Afghanistan)(individual) [SDNTK]

8. NOOR, Haji Mohammad (a.k.a. MOHAMED KOL, Mohammed Noor; a.k.a. MOHAMMED KUL, Mohammed Nour), c/o GREEN LEAF GENERAL TRADING LLC, United Arab Emirates; c/o CONNECT TELECOM GENERAL TRADING LLC, United Arab Emirates; c/o NEW ANSARI MONEY EXCHANGE, Afghanistan; DOB 27 Jul 1965; citizen Afghanistan (individual) [SDNTK]

9. NOORULLAH, Haji, c/o NEW ANSARI MONEY EXCHANGE, Afghanistan; DOB 16 Apr 1970; alt. DOB 1969; POB City District 1, Kandahar, Afghanistan; citizen Afghanistan; National ID No. 1092488 (Afghanistan); alt. National ID No. 192488 (Afghanistan); Passport TR-030067 (Afghanistan) (individual) [SDNTK]

Dated: February 18, 2011.
Barbara C. Hammerle,
Acting Director, Office of Foreign Assets Control.

[FR Doc. 2011-4192 Filed 2-24-11; 8:45 am]

BILLING CODE 4810-AL-P